NUCLEAR REGULATORY COMMISSION

Sunshine Act Meeting

DATES: Weeks of January 30, February 6, 13, 20, 27, March 6, 2006.

PLACE: Commissioners' Conference Room, 11555 Rockville Pike, Rockville, Maryland.

Status: Public and Closed.

Matters to be Considered:

Week of January 30, 2006

Tuesday, January 31, 2006

9:25 a.m. Affirmation Session (Public Meeting).

a. FIRSTENERGY Nuclear Operating Co. (Beaver Valley Power Station, Unit Nos. 1 & 2; Davis Besse Power Station, Unit 1; Perry Nuclear Power Plant, Unit No. 1), Docket Nos. 50-334-LT, 50-346-LT, 50-412-LT, & 50-440-LT.

b. Private Fuel Storage (Independent Spent Fuel Storage installation) Docket No. 72-22-ISFSI.

c. Motion to Reopen the Millstone License Renewal Proceedings Filed by Connecticut Coalition Against Millstone.

9:30 a.m. Briefing on Strategic Workforce Planning and Human Capital Initiatives (Public Meeting). (Contact: Kristen Davis, 301-415-7108.)

This meeting will be webcast live at the Web address http://www.nrc.gov.

Wednesday, February 1, 2006

9:30 a.m. Discussion of Security Issues (Closed—Ex. 1 & 3).

Thursday, February 2, 2006

1:30 p.m. Briefing on Sensitive Unclassified Non-Safeguards Information (SUNSI) Policy (Public Session and Closed Session—Ex. 2). (Contact: Edward Baker, 301-415-8700.)

Open portion of this meeting will be webcast live at the Web address http://www.nrc.gov.

Week of February 6, 2006—Tentative

Monday, February 6, 2006

9:30 a.m. Briefing on Materials Degradation Issues and Fuel Reliability (Public Meeting). (Contact: Jennifer Uhle, 301-415-6200.)

This meeting will be webcast live at the Web address http://www.nrc.gov

2 p.m. Discussion of Security Issues (Closed—Ex. 1).

Wednesday, February 8, 2006

9:30 a.m. Briefing on Office of Nuclear Materials Safety and Safeguards (NMSS) Programs, Performance, and Plans—Materials Safety (Public Meeting). (Contact: Teresa Mixon, 301-415-7474; Derek Widmayer, 301-415-6677.)

This meeting will be webcast live at the Web address http://www.nrc.gov.

1:30 p.m. Briefing on Office of Research (RES) Programs, Performance and Plans (Public Meeting). (Contact: Gene Carpenter, 301-415-7333.)

This meeting will be webcast live at the Web address http://www.nrc.gov.

Week of February 13, 2006—Tentative

Tuesday, February 14, 2006

2 p.m. Briefing on Office of Nuclear Materials Safety and Safeguards (NMSS) Programs, Performance, and Plans—Waste Safety (Public Meeting). (Contact: Teresa Mixon, 301-415-7474; Derek Widmayer, 301-415-6677.)

The meeting will be webcast live at the Web address http://www.nrc.gov.

Wednesday, February 15, 2006

9:30 a.m. Briefing on Office of Chief Financial Officer (CFO) Programs, Performance, and Plans (Public Meeting). (Contact: Edward New, 301-415-5646.)

This meeting will be webcast live at the Web address http://www.nrc.gov.

Week of February 20, 2006—Tentative

There are no meetings scheduled for the Week of February 20, 2006.

Week of February 27, 2006—Tentative

There are no meetings scheduled for the Week of February 27, 2006.

Week of March 6, 2006—Tentative

There are no meetings scheduled for the Week of March 6, 2006.

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: January 26, 2006.
R. Michelle Schroll,
Office of the Secretary.

[FR Doc. 06-925 Filed 1-27-06; 11:26 am]

BILLING CODE 7590-01-M